DEPARTMENT OF THE INTERIOR

Office of the Secretary

Notice of Establishment of the Joint Fire Science Program Stakeholder Advisory Group

AGENCY: Office of the Secretary, Interior.

ACTION: Establishment of the Joint Fire Science Program Stakeholder Advisory Group.

SUMMARY: This notice is published in accordance with Section 9(a)(2) of the Federal Advisory Committee Act of 1972 (FACA) (5 U.S.C. App.). Notice is hereby given that the Secretary of the Interior and the Secretary of Agriculture have established the Joint Fire Science Program Stakeholder Advisory Group to provide advice concerning priorities and approaches for research and implementation of research findings for the management of wildland fuels on lands administered by the U.S. Department of the Interior, through the Bureau of Indian Affairs, Bureau of Land Management, National Park Service, and U.S. Fish and Wildlife Service, and the U.S. Department of Agriculture, through the Forest Service.

EFFECTIVE DATE: This Committee is established effective January 24, 2001.

FOR FURTHER INFORMATION CONTACT: Dr. Bob Clark, Joint Fire Science Program Manager, National Interagency Fire Center, 3833 S. Development Ave., Boise, Idaho 83705, (208) 387-5349. Internet: bob_clark@blm.gov.

SUPPLEMENTARY INFORMATION: This notice is published in accordance with Section 9(a)(2) of the Federal Advisory Committee Act of 1972 FACA) (5 U.S.C. App.).

The Committee will conduct its operations in accordance with FACA. The Committee will report to the Joint Fire Science Program Governing Board (Governing Board). The Committee's charter provides for the Committee to assist the Governing Board by gathering and analyzing information and considering public comments in order to provide advice develop recommendations from a national public interest perspective to the Secretaries and the Governing Board on matters pertaining to research into the wildlands fuels problem and implementation of solutions, and other related matters as the Governing Board may request.

To achieve the Committee's goals, members will be appointed who can represent effectively the varied interests affected by the Joint Fire Science Program. Members will represent a variety of viewpoints and will have varying experience and the Committee will be fairly balanced in terms of view, background, and tasks. Federal Members will represent the U.S. Department of the Interior, through the Bureau of Indian Affairs, Bureau of Land Management, National Park Service, and U.S. Fish and Wildlife Service, and the U.S. Department of Agriculture, through the Forest Service.

The Secretary of the interior will designate one of the members to serve as chair. The Department of the Interior will provide the necessary administrative support for the Committee.

Pursuant to a waiver under 41 CFR § 101-6.1015, a copy of the Committee's charter will be filed with the Committee on Energy and Natural Resources, United States Senate; Committee on Resources, U.S. House of Representatives; the Library of Congress; and the Committee Management Secretariat; General Services Administration simultaneously with the publication of this notice.

CERTIFICATION: I hereby certify that the establishment of the Joint Fire Science Program Stakeholder Advisory Group is necessary and in the public interest in connection with the Secretary of the interior's statutory responsibilities to manage the lands and resources administered by the Department of the Interior.

Dated: January 18, 2001.
Bruce Babbitt,
Secretary of the Interior.

[FR Doc. 01-2128 Filed 1-23-01; 8:45 am]

BILLING CODE 4310-55-M